DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Dates and times:

Wednesday, February 22, 2017: 9:00 a.m.-5:30 p.m.

Thursday, February 23, 2017: 8:30 a.m.-3:15 p.m.

Place: U.S. Department of Health and Human Services, Hubert H. Humphrey Building, 200 Independence Avenue SW., Rm. 705A, Washington, DC 20201.

Status: Open.

Purpose: At the February 22-23, 2017 meeting, the Committee will hear presentations, hold discussions on several health data policy topics, and receive updates from the Department, the Centers for Medicare and Medicaid Services, and the National Center for Health Statistics. On the first day, the Committee will focus on two items ready for action: A recommendation letter that addresses de-identification of protected health information under HIPAA, and “Measuring Health at the Community Level: Data Gaps and Opportunities,” a workshop summary and overview of the NCVHS Measurement Framework for Community Health and Well-Being effort. The Committee will review and discuss draft materials of work in progress including the NCVHS 12th Report to Congress, an analytic review of HealthData.gov, and plans for hearings in June 2017 focused on standards. On the second day, the Committee will continue to focus on planning efforts being organized by the Standards Subcommittee, planning efforts for a Fall 2017 hearing on vital statistics in the U.S., and follow-up items on actions from the previous day. Staff from the Centers for Medicare and Medicaid Services will give a briefing on its Social Security Number Removal Initiative, and the Committee will engage in additional strategic discussions regarding its work plan and areas of focus for 2017.

The times and topics are subject to change. Please refer to the posted agenda for any updates.

Contact Person for More Information: Substantive program information may be obtained from Rebecca Hines, MHS, Executive Secretary, NCVHS, National Center for Health Statistics, Centers for Disease Control and Prevention, 3311 Toledo Road, Hyattsville, Maryland 20782, telephone (301) 458-4715. Summaries of meetings and a roster of Committee members are available on the home page of the NCVHS Web site: http://www.ncvhs.hhs.gov/, where further information including an agenda and instructions to access the audio broadcast of the meetings will also be posted.

Should you require reasonable accommodation, please contact the CDC Office of Equal Employment Opportunity on (770) 488-3210 as soon as possible.

Dated: January 25, 2017.
Laina Bush,
Deputy Assistant Secretary for Planning and Evaluation, Office of the Assistant Secretary for Planning and Evaluation.

[FR Doc. 2017-02476 Filed 2-6-17; 8:45 am]

BILLING CODE 4151-05-P